DEPARTMENT OF AGRICULTURE

Forest Service

Columbia County Resource Advisory Committee (RAC)

AGENCY: Forest Service, USDA.

ACTION: Notice of meeting.

SUMMARY: Pursuant to the authorities in the Federal Advisory Committees Act (Pub. L. 92-463), the Southeast Washington Resource Advisory Committee (RAC) will meet on January 23, 2002 in Pomeroy, Washington. The purpose of the meeting is to meet as a Committee for the first time and to discuss the selection of Title II projects under Public Law 106-393, H.R. 2389, the Secure Rural Schools and Community Self-Determination Act of 2000, also called the “Payments to States” Act.

DATES: The meeting will be held on January 23, 2002 from 7 p.m. to 9 p.m.

ADDRESSES: The meeting will be held at the Forest Service office located at 71 West Main Street, Pomeroy, Washington.

FOR FURTHER INFORMATION CONTACT: Monte Fujishin, Designated Federal Official, USDA, Umatilla National Forest, Pomeroy Ranger District, 71 West Main Street, Pomeroy, WA 99347. Phone: (509) 843-1891.

SUPPLEMENTARY INFORMATION: This will be the first meeting of the committee, and will focus on meeting other RAC members and becoming familiar with duties and responsibilities. The meeting is open to the public. Public input opportunity will be provided and individuals will have the opportunity to address the committee at that time.

Dated: December 19, 2001.
Jeff D. Blackwood,
Forest Supervisor.

[FR Doc. 01-32202 Filed 12-31-01; 8:45 am]

BILLING CODE 3410-BH-M